DEPARTMENT OF ENERGY

Proposed Emergency Information Collection

AGENCY: Grid Deployment Office, Department of Energy.

ACTION: Notice and request for comments.

SUMMARY: The Department of Energy (DOE) Grid Deployment Office (GDO) invites the public to comment on a proposed emergency collection of information that DOE is developing for submission to the Office of Management and Budget (OMB) pursuant to the Paperwork Reduction Act of 1995.

DATES: Comments regarding this proposed information collection must be received on or before December 2, 2024. If you anticipate that you will be submitting comments but find it difficult to do so within the period allowed by this notice, please advise the OMB Desk Officer of your intention to make a submission as soon as possible. The Desk Officer may be telephoned at (202) 881-8585.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Aisha Miranda Rivera, Department of Energy, Grid Deployment Office, 1000 Independence Avenue SW, Suite 4H-065, Washington, DC 20585; (240) 429-5213; aisha.miranda-rivera@hq.doe.gov.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5200;

(2) Information Collection Request Title: Puerto Rico Energy Resilience Fund (PR-ERF), Household Intake Form;

(3) Type of Request: Emergency Clearance;

(4) Purpose: The PR-ERF will support the installation of rooftop solar and storage solutions for vulnerable Puerto Rican households. The purpose of this Information Collection Request (ICR) is to authorize the `PR-ERF Household Intake Form' as the means to collect homeowner information necessary to qualify households as eligible to participate in the deployment phase of the PR-ERF. Eligibility is limited to very low-income single-family households ¹ residing in Puerto Rico that (1) include an individual with an energy-dependent disability or (2) are located in a Last Mile Community.² On May 15, 2024, OMB approved form 1910-5200. GDO is seeking a revision of the current intake form, specifically the sections related to income eligibility and proof of an individual with an energy dependent disability. DOE has initiated installations of solar PV and battery storage systems to address the harm and risk represented by the fragility of the island's power system. However, DOE has received significant public input from program awardees and potential beneficiaries ³ to expand the types of information that may be submitted to verify eligibility under the program. Many awardees and potential beneficiaries of this program have requested DOE expand the definition “very low-income single-family household” to consider additional income qualifying programs, such as Plan de Salud Vital and USDA Sections 502 and 504 Programs and allow potential beneficiaries to submit this information as verification of eligibility to the program. Also, awardees expressed age verification as an appropriate modality for verifying energy-dependent disability status and including temperature control devices as eligible medical equipment for energy-dependent critical load purposes. As a result, it is necessary for DOE to modify the program information collection practices in response to this public feedback.

¹ A census block that (a) has a high percent of very low-income households, and (b) experiences frequent and prolonged power outages. Solar Ambassador organizations will perform outreach activities in Last Mile Communities to identify qualifying households.

² https://clausa.app.carto.com/map/f63080c5-19c9-47c6-8ac8-74d96358e9ed.

³ This includes responses to a Request for Information on the program design issues February 21, 2023 as well through negotiations with program awardees.

(5) Annual Estimated Number of Respondents: 40,140;

(6) Annual Estimated Number of Total Responses: 80,000;

(7) Annual Estimated Number of Burden Hours: 56,800;

(8) Annual Estimated Reporting and Recordkeeping Cost Burden: $845,520.

Statutory Authority: The Consolidated Appropriations Act of 2023, Public Law 117-328, directs the Department of Energy to improve the resilience of the Puerto Rican electric grid, including grants for low-and-moderate-income households and households that include individuals with disabilities for the purchase and installation of renewable energy, energy storage, and other grid technologies.

Signing Authority

This document of the Department of Energy was signed on October 28, 2024, by Maria D. Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 28, 2024.
Jennifer Hartzell,
Alternate Federal Register Liaison Officer, U.S. Department of Energy.

[FR Doc. 2024-25416 Filed 10-31-24; 8:45 am]

BILLING CODE 6450-01-P